DEPARTMENT OF HEALTH AND HUMAN SERVICES

Centers for Disease Control and Prevention

[30-Day-07-06BC]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Survey of the Mining Population—New—National Institute for Occupational Safety and Health (NIOSH), Centers for Disease Control and Prevention (CDC).

Background and Brief Description

Surveillance of occupational injuries, illnesses, and exposures has been an integral part of the work of the National Institute for Occupational Safety and Health (NIOSH) since its creation by the Occupational Safety and Health Act in 1970. To improve its surveillance capability related to the occupational risks in mining, NIOSH is planning to conduct a national survey of mines and mine employees. No national surveys have specifically targeted the mining labor force since the 1986 Mining Industry Population Survey (MIPS). The mining industry has experienced many changes in the last 20 years; consequently, the MIPS data are no longer representative of the current mining industry labor force.

NIOSH conducted a pilot study for the proposed national survey in the fall of 2004 (OMB #0920-0633, expired 3/31/05). The pilot study was designed to emulate the main study design in order to evaluate the effectiveness of the recruitment materials, questionnaire, and survey procedures in acquiring complete, high quality data from a sample of 45 mining operations. Objective data collected in the pilot study included overall response rates and individual item response rates. Subjective data were collected using telephone logs, and participant and non-participant debriefing interviews. Data captured in the pilot study were used to guide improvements to maximize the performance of the various components of the full-scale study.

The proposed national survey will be based upon a probability sample of mining operations and their employees. The survey will be conducted in the five major mining sectors (i.e., coal, metal, nonmetal, stone, and sand and gravel). The major objectives of the survey will be to: (1) Obtain denominator data so that mine accident, injury, and illness reports can be evaluated in relation to the population at risk; (2) understand the demographic and occupational characteristics of the mining industry workforce; (3) estimate the number and occupational characteristics of independent contractor employees used by mining operations; and (4) obtain mine level information on selected variables. The sampled mining operations will provide all survey data; individual mine operator and independent contractor employees will not be directly surveyed. As a result of this study, surveillance researchers and government agencies will be able to identify groups of miners with a disproportionately high risk of injury or illness. By capturing demographic (e.g., age, gender, race/ethnicity, education level) and occupational characteristics (e.g., job title, work location, work experience) of the mining workforce, these data will be a significant resource for the customization of interventions such as safety training programs.

Approximately 2272 mines will be sampled for the study. It is expected that this will yield 1,648 responding eligible mines (i.e., mines in current operation and producing the commodity for which they were sampled), reporting data for approximately 24,452 employees. A survey packet will be mailed to each sampled mine. The mining operation will not be asked to report the names or any other identifying information for their employees. The survey respondent will have the option of completing either the survey questionnaire booklet or an Internet web-based survey questionnaire.

The ultimate goal of the study is to provide surveillance data that will help to minimize and prevent work-related injuries and illnesses that harm miners and reduce productivity. NIOSH will use the information to calculate injury rates and customize safety and health interventions for various mining occupations. Once the study is completed, NIOSH will send a copy of the final report to each sampled mining operation. There is no cost to respondents other than their time. The total estimated annualized burden hours are 3,296.

Estimated Annualized Burden Hours
Respondents | Number of respondents | Number of responses per respondent | Average burden per response (in hours) | Annual burden (in hours)
Responding Eligible Mining Operations | 1,648 | 1 | 120/60 | 3,296

Dated: April 20, 2007.
Joan F. Karr,
Acting Reports Clearance Officer, Centers for Disease Control and Prevention.

[FR Doc. E7-7976 Filed 4-25-07; 8:45 am]

BILLING CODE 4163-18-P